DEPARTMENT OF LABOR

Employment and Training Administration

[TA-W-50,358]

Jore Corporation; Edgerton, Wisconsin; Notice of Termination of Investigation

Pursuant to section 221 of the Trade Act of 1974, as amended, an investigation was initiated on December 16, 2002, in response to a worker petition filed by a company official on behalf of workers at Jore Corporation, Edgerton, Wisconsin.

The petitioner has requested that the petition be withdrawn. Consequently, the investigation has been terminated.

Signed in Washington, DC this 15th day of January, 2003.
Richard Church,
Certifying Officer, Division of Trade Adjustment Assistance.

[FR Doc. 03-2564 Filed 2-3-03; 8:45 am]

BILLING CODE 4510-30-P